DEPARTMENT OF TRANSPORTATION

Federal Aviation Administration

14 CFR Part 39

[Docket No. FAA-2008-1082; Directorate Identifier 2007-NM-337-AD]

RIN 2120-AA64

Airworthiness Directives; Airbus Model A300 Airplanes; Model A300 B4-601, B4-603, B4-620, B4-622, B4-605R, B4-622R, F4-605R, F4-622R, and C4-605R Variant F Airplanes (Collectively Called A300-600 Series Airplanes); and Model A310 Airplanes

AGENCY: Federal Aviation Administration (FAA), Department of Transportation (DOT).

ACTION: Notice of proposed rulemaking (NPRM).

SUMMARY: The FAA proposes to supersede an existing airworthiness directive (AD) that applies to all of the airplanes identified above. The existing AD currently requires revising the FAA-approved maintenance program to include a new airplane maintenance manual task that specifies a detailed inspection after each ram air turbine (RAT) retraction. That existing AD also currently requires, for certain airplanes, a one-time inspection to detect breaks in the bottom flange fitting of the RAT and corrective actions, if necessary; for certain airplanes, an adjustment of the ejection jack; and, for certain other airplanes, replacement of the aluminum part with an improved steel part. This proposed AD also would continue to require certain actions for additional airplanes and would revise the FAA-approved maintenance program to include procedures for replacing the RAT swivel coupling fork fitting with a new steel part only. This proposed AD results from a report that an additional swivel coupling of the RAT yoke fitting was found cracked while accomplishing the requirements of the existing AD. We are proposing this AD to prevent misrigging of the ejection jack of the RAT and to ensure removal of any RAT yoke fitting made from aluminum material. Such conditions could result in a broken or cracked swivel coupling and consequent failure of the RAT yoke fitting, which could result in the loss of RAT function and possible loss of critical flight control systems in the event of certain emergency situations.

DATES: We must receive comments on this proposed AD by November 10, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2008-1082; Directorate Identifier 2007-NM-337-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On January 24, 2007, we issued AD 2007-03-09, amendment 39-14920 (72 FR 5157, February 5, 2007), for all Airbus Model A300 airplanes; Model A300 B4-601, B4-603, B4-620, B4-622, B4-605R, B4-622R, F4-605R, F4-622R, and C4-605R variant F airplanes (collectively called A300-600 series airplanes); and Model A310 airplanes. That AD requires revising the FAA-approved maintenance program to include a new airplane maintenance manual task that specifies a detailed inspection after each ram air turbine (RAT) retraction. That AD also requires, for certain airplanes, a one-time inspection to detect breaks in the bottom flange fitting of the RAT and corrective actions, if necessary; for certain airplanes, an adjustment of the ejection jack; and, for certain other airplanes, replacement of the aluminum part with an improved steel part. That AD resulted from a report indicating that the swivel coupling of the RAT yoke fitting was found broken (due to a static overload as a result of the ejection jack of the RAT being misrigged). We issued that AD to prevent failure of the RAT yoke fitting, which could result in the loss of RAT function and possible loss of critical flight control systems in the event of certain emergency situations.

Actions Since Existing AD Was Issued

Since we issued AD 2007-03-09, European Aviation Safety Agency (EASA), which is the Technical Agent for the Member States of the European Community, informed us that an additional swivel coupling of the RAT yoke fitting was found cracked while accomplishing the requirements of that AD. Investigation revealed that the crack was initiated by a stress-corrosion phenomenon on the aluminum material.

Misrigging of the ejection jack of the RAT or a RAT yoke fitting that is made from aluminum material, if not corrected, could result in a broken or cracked swivel coupling and consequent failure of the RAT yoke fitting. This condition could result in the loss of RAT function and possible loss of critical flight control systems in the event of certain emergency situations.

EASA has also informed us that certain Model A310 and A300-600 series airplanes equipped with Hamilton Sundstrand RATs have a RAT yoke fitting made from aluminum material. Therefore, those airplanes are now subject to the same replacement requirements of AD 2007-03-09 as those airplanes equipped with Dowty Rotol RATs.

Relevant Service Information

Airbus has issued Service Bulletin A310-57-2086, Revision 01, dated September 3, 2007 (for Model A310 series airplanes); and Service Bulletin A300-57-6099, Revision 01, dated September 3, 2007 (for Model A300-600 series airplanes). (AD 2007-03-09 refers to Airbus Service Bulletins A310-57-2086, dated March 1, 2005, and A300-57-6099, dated February 23, 2005; as applicable; as appropriate sources of service information for accomplishing the required replacement.) The replacement procedures specified in Revision 01 of the service bulletins are identical to that in the original issues of the service bulletins. No additional work is recommended for airplanes modified by the original issues of the service bulletins.

Accomplishing the actions specified in the service information is intended to adequately address the unsafe condition. EASA mandated the service information and issued airworthiness directive 2007-0273, dated October 23, 2007, to ensure the continued airworthiness of these airplanes in the European Union.

FAA's Determination and Requirements of the Proposed AD

These airplanes are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, EASA has kept the FAA informed of the situation described above. We have examined EASA's findings, evaluated all pertinent information, and determined that AD action is necessary for airplanes of this type design that are certificated for operation in the United States.

This proposed AD would supersede AD 2007-03-09. This proposed AD would continue to require replacing the aluminum yoke fitting of the swivel coupling of the RAT with a new steel yoke fitting and revising the FAA-approved maintenance program to include a new airplane maintenance manual task that specifies a detailed inspection after each RAT retraction. This proposed AD also would require those actions for additional airplanes and would revise the FAA-approved maintenance program to include procedures for replacing the RAT swivel coupling fork fitting with a new steel part only (the existing procedures allow replacement with either an aluminum or steel part).

Difference Between This AD and EASA Airworthiness Directive

EASA airworthiness directive 2007-0273 applies to the following U.S.-registered airplanes: Airbus Model A310 and A300-600 series airplanes, except for airplanes on which Airbus Modification 12986 or 19578 has been done in production or on which Airbus Service Bulletin A310-57-2086 or A300-57-6099 has been done. This proposed AD, as did AD 2007-03-09, would affect all Model A300, A300-600, and A310 series airplanes. AD 2007-03-09 combined two French airworthiness directives (i.e., F-2005-089, dated June 8, 2005, and F-2005-090 R1, dated July 6, 2005), which affect additional airplanes not identified in EASA airworthiness directive 2007-0273.

Unlike EASA airworthiness directive 2007-0273, this proposed AD would require revising the FAA-approved maintenance program to specify an inspection for breaks of the bottom flange of the RAT swivel coupling yoke fitting after each RAT retraction; and replacement of the RAT swivel coupling yoke fitting with a new steel part. This action is necessary to ensure that only steel yoke fittings are installed.

Change to Existing AD

This proposed AD would retain certain requirements of AD 2007-03-09. Since AD 2007-03-09 was issued, the AD format has been revised, and certain paragraphs have been rearranged. As a result, the corresponding paragraph identifiers have changed in this proposed AD, as listed in the following table:

Revised Paragraph Identifiers
Requirement in AD 2007-03-09 | Corresponding requirement in this proposed AD
Paragraph (b) | Paragraph (f).
Paragraph (c) | Paragraph (g).

Costs of Compliance

The following table provides the estimated costs for U.S. operators to comply with this proposed AD.

Estimated Costs
Action | Work hours | Average labor rate per hour | Parts | Cost per airplane | Number of U.S.-registered airplanes | Fleet cost
Replacement | 14 | $80 | $470 | $1,590 | 205 | $325,950
Revision of FAA-approved maintenance program | 1 | 80 | None | 80 | 205 | 16,400

In consideration of the compliance time and effective date for accomplishing the replacement and revision of the FAA-approved maintenance program required by AD 2007-03-09 (retained in paragraphs (f) and (g) of this proposed AD), we assume that operators of the affected airplanes have already initiated the required actions. The proposed AD would add no new costs associated with those airplanes.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General Requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14920 (72 FR 5157, February 5, 2007) and adding the following new airworthiness directive (AD):

Airbus: Docket No. FAA-2008-1082; Directorate Identifier 2007-NM-337-AD.

Comments Due Date

(a) The FAA must receive comments on this AD action by November 10, 2008.

Affected ADs

(b) This AD supersedes AD 2007-03-09.

Applicability

(c) This AD applies to all Model A300 airplanes; Model A300 B4-601, B4-603, B4-620, B4-622, B4-605R, B4-622R, F4-605R, F4-622R, and C4-605R Variant F airplanes; and Model A310 airplanes, certificated in any category.

Unsafe Condition

(d) This AD results from a report that an additional swivel coupling of the RAT yoke fitting was found cracked while accomplishing the requirements of the existing AD. We are issuing this AD to prevent misrigging of the ejection jack of the ram air turbine (RAT) and to ensure removal of any RAT yoke fitting made from aluminum material. Such conditions could result in a broken or cracked swivel coupling and consequent failure of the RAT yoke fitting, which could result in the loss of RAT function and possible loss of critical flight control systems in the event of certain emergency situations.

Compliance

(e) You are responsible for having the actions required by this AD performed within the compliance times specified, unless the actions have already been done.

Certain Requirements of AD 2007-03-09:

Replacement

(f) For Model A300 airplanes, Model A300-600 series airplanes, and Model A310 airplanes equipped with Dowty Rotol RATs, except airplanes on which Airbus Modification 12986 has been done: Within 12 months after March 12, 2007 (the effective date of AD 2007-03-09), replace the RAT swivel coupling fork fitting with a new steel fitting, in accordance with the Accomplishment Instructions of Airbus Service Bulletin A300-57-0244, dated March 4, 2005 (for Model A300 airplanes); A300-57-6099, dated February 23, 2005 (for Model A300-600 series airplanes); or A310-57-2086, dated March 1, 2005 (for Model A310 airplanes); as applicable; except as provided by paragraph (h) of this AD.

Revisions of FAA-Approved Maintenance Program

(g) For all airplanes: Within 3 months after March 12, 2007, incorporate the information in the applicable aircraft maintenance manual (AMM) specified in paragraphs (g)(1), (g)(2), and (g)(3) of this AD, into the FAA-approved maintenance program to specify an inspection for breaks of the bottom flange of the RAT swivel coupling yoke fitting after each RAT retraction; and replacement of the RAT swivel coupling yoke fitting with a new aluminum or steel part as applicable; in accordance with a method approved by the Manager, International Branch, ANM-116, Transport Airplane Directorate, FAA; or the Direction Générale de l'Aviation Civile (or its delegated agent); or European Aviation Safety Agency (or its delegated agent). The page blocks specified in paragraphs (g)(1), (g)(2), and (g)(3) of this AD, as applicable, are one approved method for the actions required by paragraph (g) of this AD. Thereafter, except as provided by paragraph (l) of this AD, no alternative inspection intervals may be approved for the bottom flange of the RAT swivel coupling yoke fitting.

(1) Airbus A300-600 AMM, Chapter 29-25-00, Page Block 301, dated June 1, 2005.

(2) Airbus A310 AMM, Chapter 29-25-00, Page Block 301, dated June 1, 2005.

(3) Airbus A300 AMM Chapter 29-25-00, Page Block 301, dated March 1, 2006.

Note 1: After revising the maintenance program to include the required periodic inspections according to paragraph (g) or (k) of this AD, operators do not need to make a maintenance log entry to show compliance with this AD every time those inspections are accomplished thereafter.

Note 2: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (l) of this AD. The request should include a description of changes to the required inspections that will ensure the continued damage tolerance of the affected structure. The FAA has provided guidance for this determination in Advisory Circular (AC) 25-1529-1.

New Requirements of This AD

Revised Service Bulletins

(h) As of the effective date of this AD, use only the Accomplishment Instructions of Airbus Service Bulletin A310-57-2086, Revision 01, dated September 3, 2007 (for Model A310 series airplanes); or Airbus Service Bulletin A300-57-6099, Revision 01, dated September 3, 2007 (for Model A300-600 series airplanes); as applicable; to do the replacement required by paragraph (f) of this AD.

Replacement

(i) For airplanes identified in Table 1 of this AD: Before 102 months since first flight, or within 12 months after the effective date of this AD, whichever occurs later, replace the aluminum yoke fitting of the swivel coupling of the RAT with a new steel yoke fitting, in accordance with the Accomplishment Instructions of Airbus Service Bulletin A310-57-2086, Revision 01, dated September 3, 2007 (for Model A310 series airplanes); or Airbus Service Bulletin A300-57-6099, Revision 01, dated September 3, 2007 (for Model A300-600 series airplanes); as applicable.

Table 1—Applicability of paragraph (i) of This AD
Model— | Except for those airplanes on which— | Or on which—
(1) A310 series airplanes equipped with Hamilton Sundstrand RAT | Airbus Modification 12986 or 19578 has been done in production | Airbus Service Bulletin A310-57-2086, dated March 1, 2005; or Revision 01, dated September 3, 2007 has been done in service.
(2) A300-600 series airplanes equipped with Hamilton Sundstrand RAT | Airbus Modification 12986 or 19578 has been done in production | Airbus Service Bulletin A300-57-6099, dated February 23, 2005; or Revision 01, dated September 3, 2007; has been done in service.

(j) Replacements done before the effective date of this AD in accordance with Airbus Service Bulletin A310-57-2086, dated March 1, 2005 (for Model A310 series airplanes); or Airbus Service Bulletin A300-57-6099, dated February 23, 2005 (for Model A300-600 series airplane); as applicable; are acceptable for compliance with the requirements of paragraph (i) of this AD.

Revision of FAA-Approved Maintenance Program

(k) For all airplanes: Within 3 months after the effective date of this AD, incorporate the information in the applicable AMM specified in paragraphs (k)(1), (k)(2), and (k)(3) of this AD, into the FAA-approved maintenance program to specify an inspection for breaks of the bottom flange of the RAT swivel coupling yoke fitting after each RAT retraction; and replacement of the RAT swivel coupling yoke fitting with a new steel part; in accordance with a method approved by the Manager, International Branch, ANM-116, Transport Airplane Directorate, FAA; or European Aviation Safety Agency (or its delegated agent). The page blocks specified in paragraphs (k)(1), (k)(2), and (k)(3) of this AD, as applicable, that contain the inspection and replacement described previously are one approved method for the actions required by paragraph (k) of this AD. Thereafter, except as provided by paragraph (l) of this AD, no alternative inspection intervals may be approved for the bottom flange of the RAT swivel coupling yoke fitting. Accomplishing this incorporation terminates the requirements of paragraph (g) of this AD.

(1) Airbus A300-600 AMM, Chapter 29-25-00, Page Block 301.

(2) Airbus A310 AMM, Chapter 29-25-00, Page Block 301.

(3) Airbus A300 AMM Chapter 29-25-00, Page Block 301.

Alternative Methods of Compliance (AMOCs)

(l) The Manager, International Branch, ANM-116, FAA, has the authority to approve AMOCs for this AD, if requested using the procedures found in 14 CFR 39.19. Send information to ATTN: Vladimir Ulyanov, Aerospace Engineer, International Branch, ANM-116, Transport Airplane Directorate, FAA, 1601 Lind Avenue SW., Renton, Washington 98057-3356; telephone (425) 227-1138; fax (425) 227-1149. Before using any approved AMOC on any airplane to which the AMOC applies, notify your appropriate principal inspector (PI) in the FAA Flight Standards District Office (FSDO), or lacking a PI, your local FSDO.

Related Information

(m) European Aviation Safety Agency (EASA) airworthiness directive 2007-0273, dated October 23, 2007, and French airworthiness directive F-2005-089, dated June 8, 2005, also address the subject of this AD.

Issued in Renton, Washington, on October 2, 2008.
Ali Bahrami,
Manager, Transport Airplane Directorate, Aircraft Certification Service.

[FR Doc. E8-24151 Filed 10-9-08; 8:45 am]

BILLING CODE 4910-13-P